DEPARTMENT OF HEALTH AND HUMAN SERVICES

Centers for Disease Control and Prevention

Multi-Agency Informational Meetings To Discuss Reporting Requirements for Entities; Public Webinars

AGENCY: Centers for Disease Control and Prevention (CDC), Department of Health and Human Services (HHS)

ACTION: Notice of public webinars.

SUMMARY: The HHS/CDC's Division of Select Agents and Toxins (DSAT) and the U.S. Department of Agriculture/Animal and Plant Health Inspection Service (APHIS)'s Division of Agricultural Select Agents and Toxins (DASAT) are jointly charged with the regulation of the possession, use and transfer of biological agents and toxins that have the potential to pose a severe threat to public, animal or plant health or to animal or plant products (select agents and toxins). This joint effort constitutes the Federal Select Agent Program. Due to the continuing pandemic and concerns for the safety of our workshop attendees and employees, DSAT replaced in-person workshops with webinars. The purpose of the webinars is to provide guidance on completing APHIS/CDC Form 2 (Request to Transfer Select Agents and Toxins), APHIS/CDC Form 3 (Report of a Release/Loss/Theft), and APHIS/CDC Form 4 (Reporting the Identification of a Select Agent or Toxin) (APHIS/CDC Forms 2-4) for interested individuals. Two sessions covering the same agenda will be held to provide two opportunities for interested individuals to participate.

DATES: The webinars will be held October 6, 2021 from 10 a.m. to 12:30 p.m. (EDT) and November 3, 2021 from 1:30 p.m. to 4:00 p.m. (EDT). Registration instructions are found on the website, https://www.selectagents.gov.

ADDRESSES: The webinars will be conducted from the Centers for Disease Control and Prevention, 1600 Clifton Road NE, Atlanta, Georgia 30329.

FOR FURTHER INFORMATION CONTACT: CDC: Samuel S. Edwin, Ph.D., Director, DSAT, Center for Preparedness and Response, CDC, 1600 Clifton Road NE, MS H-21-7, Atlanta, Georgia 30329. Telephone: (404) 718-2000; email: lrsat@cdc.gov. APHIS: Jack Taniewski, DVM, Director, DASAT, APHIS, 4700 River Road, Unit 2, Riverdale, MD 20737. Telephone: (301) 851-2070; email: DASAT@usda.gov.

SUPPLEMENTARY INFORMATION: The two public webinar sessions covering the same content, scheduled for Wednesday, October 6, 2021 and Wednesday, November 3, 2021, are opportunities for interested individuals to obtain guidance on completing the APHIS/CDC Forms 2-4 and reporting requirements related to the select agent and toxin regulations (7 CFR part 331, 9 CFR part 121 and 42 CFR part 73). For individuals not able to attend the webinars, the information will be available under the training section at http://www.selectagents.gov.

Representatives from the Federal Select Agent Program will be present during the webinars followed by question and answer session to address questions and concerns from the webinar participants.

Participants who want to participate in the webinar should complete their registration online by September 18, 2021. The registration instructions are located on this website: http://www.selectagents.gov.

Dated: July 14, 2021.
Sandra Cashman,
Executive Secretary, Centers for Disease Control and Prevention.

[FR Doc. 2021-15305 Filed 7-16-21; 8:45 am]

BILLING CODE 4163-18-P